SECURITIES AND EXCHANGE COMMISSION

[Release No. 34-84684; File No. SR-NASDAQ-2018-098]

Self-Regulatory Organizations; The Nasdaq Stock Market LLC; Notice of Filing and Immediate Effectiveness of Proposed Rule Change To Relocate the Exchange's Pricing Schedule

November 29, 2018.

Correction

In notice document 2018-26400 beginning on page 62936 in the issue of Thursday, December 6, 2018, make the following correction:

On page 62938, in the second column, the last line of the first full paragraph “December 26, 2018” should read “December 27, 2018”.

[FR Doc. C1-2018-26400 Filed 12-26-18; 8:45 am]

BILLING CODE 1301-00-D